ENVIRONMENTAL PROTECTION AGENCY

[FRL-12247-01-OMS]

Senior Executive Service Performance Review Board; Membership

AGENCY: Environmental Protection Agency (EPA).

ACTION: Notice.

SUMMARY: Notice is hereby given of the membership of the U.S. Environmental Protection Agency (EPA) Performance Review Board for 2024.

FOR FURTHER INFORMATION CONTACT: Lizabeth Engebretson, Acting Director, Strategic HR Insights Division, 3606R, Office of Human Resources Strategy, Office of Mission Support, U.S. Environmental Protection Agency, 1300 Pennsylvania Avenue NW, Washington, DC 20460, telephone number: (202) 564-0804, email address: engebretson.lizabeth@epa.gov.

SUPPLEMENTARY INFORMATION: Section 4314(c)(1) through (5) of title 5, U.S.C., requires each agency to establish in accordance with regulations prescribed by the Office of Personnel Management, one or more SES performance review boards. This board shall review and evaluate the initial appraisal of a senior executive's performance by the supervisor, along with any recommendations to the appointment authority relative to the performance of the senior executive. Members of the 2024 EPA Performance Review Board are:

Denise Benjamin-Sirmons, Director, Office of Small and Disadvantaged Business Utilization, Office of the Administrator.

Erica Canzler, Director, National Enforcement Investigations Center, Office of Enforcement and Compliance Assurance.

Louis D'Amico, Associate Director for Science, Office of Science Advisor, Policy and Engagement, Office of Research and Development.

Jeffrey Dawson, Senior Science Advisor, Office of Chemical Safety and Pollution Prevention.

Lizabeth Engebretson, (Ex-Officio) Deputy Director, Strategic HR Insights Division, Office of Human Resources Strategy, Office of Mission Support.

Caroline Freeman, Director, Superfund and Emergency Management Division, Region 4.

Alice Gilliland, Deputy Director for Management, Center for Environmental Measurement and Modeling, Office of Research and Development.

Michael Harris, Director, Enforcement and Compliance Division, Region 5.

JuanCarlos Hunt, (Ex-Officio) Director, Office of Civil Rights, Office of the Administrator.

Meshell Jones-Peeler, Controller, Office of the Chief Financial Officer.

Mara J. Kamen, (Ex-Officio) Director, Office of Human Resources Strategy, Office of Mission Support.

Wynne Miller, Deputy Director, Office of Wastewater Management, Office of Water.

Javier Laureano, Director, Water Division, Region 2.

Madison Le, Director, Biopesticides and Pollution Prevention Division, Office of Chemical Safety and Pollution Prevention.

Pamela Legare, Director, Office of Acquisition Solutions, Office of Mission Support.

David Lloyd, Director, Office of Brownfields and Land Revitalization, Office of Land and Emergency Management.

Vickie Richardson, Director, Office of Management and International Services, Office of International and Tribal Affairs.

Cheryl Seager, Director, Enforcement and Compliance Assurance Division, Region 6.

Helen Serassio, Associate General, Cross-Cutting Issues Law Office, Office of General Counsel.

Richard “Chet” Wayland, Director, Air Quality Assessment Division, Office of Air and Radiation.

Mara J. Kamen,
EPA Deputy Chief Human Capital Officer and Director, Office of Human Resources Strategy, Office of Mission Support.

[FR Doc. 2024-23425 Filed 10-9-24; 8:45 am]

BILLING CODE 6560-50-P